DEPARTMENT OF TRANSPORTATION

Federal Highway Administration

Notice of Final Federal Agency Actions on a Proposed Transportation Project in Kentucky

AGENCY: Federal Highway Administration (FHWA), DOT.

ACTION: Notice of limitation on claims for judicial review of actions by FHWA and other Federal agencies.

SUMMARY: This notice announces actions taken by FHWA and other Federal agencies that are final. The actions relate to the Mountain Parkway Expansion in Magoffin and Floyd counties (Project) proposed by the Kentucky Transportation Cabinet. The Project consists of 14 miles of the Mountain Parkway (KY-114) realignment from the east side of Salyersville in Magoffin County to west side of Prestonsburg in the Floyd County, State of Kentucky. The actions grant licenses, permits, or approvals for the Project. The Supplemental Environmental Assessment (SEA), and Revised Finding of No Significant Impact (R-FONSI) under the National Environmental Policy Act (NEPA), and other documents in the Project file provide details on the Project and FHWA's actions.

DATES: By this notice, FHWA is advising the public of final agency actions subject to 23 U.S.C. 139(l)(1). A claim seeking judicial review of the Federal agency actions on the highway project will be barred unless the claim is filed on or before January 6, 2025. If the Federal law that authorizes judicial review of a claim provides a time period of less than 150 days for filing such claim, then that shorter time period still applies.

FOR FURTHER INFORMATION CONTACT: Shundreka R. Givan, Division Administrator, Federal Highway Administration, John C. Watts Federal Building, 300 West Broadway, Frankfort, Kentucky 40601, Office Hours: 8:00 a.m. to 4:30 p.m., Telephone: (502) 223-6721, email address: Shundreka.Givan@dot.gov.

SUPPLEMENTARY INFORMATION: Notice is hereby given that FHWA and other Federal agencies have taken final agency action(s) subject to 23 U.S.C. 139(l)(1) by issuing licenses, permits, and approvals for the following highway project in the State of Kentucky: The Mountain Parkway Expansion in Magoffin and Floyd counties (Project). The project realigns (widens and reconstructs) 14.0 miles of The Mountain Parkway (KY-114) from US 460 on the east side of Salyersville in Magoffin County, Kentucky to KY-114, milepoint #14.1, just west of Prestonsburg in Floyd County, Kentucky. The project completes the final construction segment of the 46.0-mile Mountain Parkway Expansion Project from Campton, Kentucky to Prestonsburg, Kentucky. The Federal project number is #0061082. It includes Kentucky Items #10-169 and #12-1.

The actions by the agencies, and the laws under which such actions were taken, are described in the Supplemental Environmental Assessment (EA) for the project, approved on January 18, 2024, in the Revised Finding of No Significant Impact (FONSI) issued on May 28, 2024, and in other documents in the project records. The Supplemental Environmental Assessment and the Revised Finding of No Significant Impact, and other project records are available by contacting the FHWA at the address provided above. The Supplemental Environmental Assessment and Revised of No Significant Impact (FONSI) can be viewed and downloaded from the project website at https://mtnparkway.com/magoffin-floyd-section/, or obtained from any contact listed above.

This notice applies to all Federal agency decision that are final as of the issuance date of this notice and all laws under which such actions were taken, including but not limited to:

1. General: National Environmental Policy Act (NEPA) [42 U.S.C. 4321-4351]; Federal-Aid Highway Act [23 U.S.C. 109].

2. Air: Clean Air Act [42 U.S.C. 7401-7671(q)].

3. Land: Section 6(f) of the Land and Water Conservation Fund Act of 1965 [16 U.S.C. 4601-4 et seq.].; Section 4(f) of the Department of Transportation Act of 1966 [49 U.S.C. 303].

4. Wildlife: Endangered Species Act [16 U.S.C. 1531-1544 and 1536]; Fish and Wildlife Coordination Act [16 U.S.C. 661-667(d)]; Migratory Bird Treaty Act [16 U.S.C. 703-712]; Bald and Golden Eagle Protection Act [16 U.S.C. 668-668c].

5. Historic and Cultural Resources: Section 106 of the National Historic Preservation Act of 1966, as amended [54 U.S.C. 306101 et seq.].

6. Social and Economic: Civil Rights Act of 1964 [42 U.S.C. 2000d et seq.]; Farmland Protection Policy Act [7 U.S.C. 4201-4209]; Uniform Relocation Assistance and Real Property Acquisition Policies Act of 1970 [42 U.S.C. 4601 et seq.]; Americans with Disabilities Act of 1990 [42 U.S.C. 12101]; Noise Control Act of 1972 [42 U.S.C. 4901 et seq.; Comprehensive Environmental Response, Compensation, and Liability Act [42 U.S.C. 9601-9675].

7. Wetlands and Water Resources: Clean Water Act (Section 319, Section 401, Section 402, Section 404) [33 U.S.C. 1251-1377]; Safe Drinking Water Act (SDWA) [42 U.S.C. 300(f) et seq.]; Resource Conservation and Recovery Act [42 U.S.C. 6901-6992(k)].

8. Executive Orders: E.O 11990; Protection of Wetlands; E.O. 11988 Floodplain Management; E.O. 12898 Federal Actions to Address Environmental Justice in Minority Populations and Low-Income Populations; E.O. 11593 Protection and Enhancement of Cultural Resources; E.O. 13007 Indian Sacred Sites; E.O. 13287 Preserve America; E.O. 13175 Consultation and Coordination with Indian Tribal Governments; E.O. 11514 Protection and Enhancement of Environmental Quality; E.O. 13112 Invasive Species; E.O. 13166 Improving Access to Services for Persons with Limited English Proficiency; E.O. 13045 Protection of Children From Environmental Health Risks and Safety Risks; E.O. 14096 Revitalizing Our Nation's Commitment to Environmental Justice for All.

(Catalog of Federal Domestic Assistance Program Number 20.205, Highway Planning and Construction. The regulations implementing Executive Order 12372 regarding intergovernmental consultation on Federal programs and activities apply to this program.)

Authority: 23 U.S.C. 139(l)(1), as amended by Moving Ahead for Progress in the 21st Century Act, (Pub. L. 112-141, 126 Stat. 405).

Shundreka R. Givan,
Division Administrator, Federal Highway Administration, Frankfort, Kentucky.

[FR Doc. 2024-17787 Filed 8-8-24; 8:45 am]

BILLING CODE 4910-22-P